DEPARTMENT OF THE INTERIOR

Minerals Management Service

30 CFR Part 206

RIN 1010-AC09

Training Sessions on the New Federal Oil Valuation Regulations

AGENCY: Minerals Management Service, Interior.

ACTION: Notice of training sessions.

SUMMARY: The Minerals Management Service (MMS) is offering five 1-day payor training sessions on its revised Federal oil valuation regulations that are effective June 1, 2000.

DATES: See SUPPLEMENTARY INFORMATION for training dates.

ADDRESSES: See SUPPLEMENTARY INFORMATION for training locations.

FOR FURTHER INFORMATION CONTACT: Ronda Gray, Royalty Valuation Division, Royalty Management Program, Minerals Management Service, P.O. Box 25165, MS 3152, Denver, Colorado 80225-0165, telephone number (303) 275-7259 or fax number (303) 275-7227.

SUPPLEMENTARY INFORMATION: The dates and locations of the training sessions are as follows:

1. Denver, CO: May 18, 2000, 8:30 a.m. to 4 p.m., Mountain time. Denver Federal Center, Building 810, (S29, southwest side entrance), Denver, Colorado, 80225; telephone number (303) 202-4852

2. Tulsa, OK: May 23, 2000, 8:30 a.m. to 4 p.m., Central time. Radisson Inn—Tulsa Airport, 2201 North 77 East Ave., Tulsa, Oklahoma 74115; telephone number (918) 835-9911

3. Houston, TX: May 24, 2000, 8:30 a.m. to 4 p.m., Central time. Minerals Management Service Office, 4141 North Sam Houston Parkway East, Houston, Texas; telephone number (281) 987-6802

4. Bakersfield, CA: May 24, 2000, 8:30 a.m. to 4 p.m., Pacific time. Bureau of Land Management, Bakersfield District Office, 3801 Pegasus Drive, Bakersfield, California; telephone number (661) 391-6000

5. Albuquerque, NM: May 31, 2000, 8:30 a.m. to 4 p.m., Mountain time. Bureau of Land Management, Albuquerque District Office, 435 Montano Road, Albuquerque, New Mexico; telephone number (505) 761-8700.

These classes are offered at no cost to representatives of the oil and gas industry and members of the public who have an interest in the valuation of oil produced from Federal lands. To assure a reservation at any of the training sessions, please contact Ms. Ronda Gray (see FOR FURTHER INFORMATION CONTACT section above) because seating is limited for these training sessions. Reservations will be made on a first-come, first-served basis. You must make your own travel and hotel reservations for the training. MMS will not reserve blocks of rooms. Travel and related expenses will not be reimbursed by MMS.

MMS published its revised Federal oil valuation regulations in the Federal Register on March 15, 2000 (65 FR 14022), effective June 1, 2000. The primary changes in the revised regulations affect lessees who value oil not sold at arm's length. The following topics will be explained in the training sessions:

• New definitions

• How to value Federal oil sold at arm's-length

• How to value Federal oil not sold at arm's length by region (California/Alaska, Rocky Mountain Region, and elsewhere)

• How to make location and quality adjustments to index prices

• How to calculate a transportation allowance

• How to request a binding valuation determination

• Other new items in the rule

We encourage payors of Federal oil royalties to attend one of the training sessions, especially if you do not sell your Federal oil production at arm's length.

Dated: April 21, 2000.
Harry Corley,
Acting Associate Director for Royalty Management.

[FR Doc. 00-10430 Filed 4-25-00; 8:45 am]

BILLING CODE 4310-MR-P